NUCLEAR REGULATORY COMMISSION

[NRC-2018-0093]

Consolidated Guidance About Materials Licenses: Guidance About Administrative Licensing Procedures

AGENCY: Nuclear Regulatory Commission.

ACTION: NUREG; issuance.

SUMMARY: The U.S. Nuclear Regulatory Commission (NRC) has issued Revision 1 to NUREG-1556, Volume 20, “Consolidated Guidance About Materials Licenses: Guidance About Administrative Licensing Procedures.” NUREG-1556, Volume 20 has been revised to include information on updated NRC materials policies and procedures, NRC's internal safety culture, security of radioactive materials, protection of sensitive information, and changes in regulatory policies and practices consistent with current regulations. This volume is intended for use by NRC staff and management.

DATES: NUREG1556, Volume 20, Revision 1, was published on November 2020.

ADDRESSES: Please refer to Docket ID NRC 2018-0093 when contacting the NRC about the availability of information regarding this document. You may obtain publicly available information related to this document using any of the following methods:

• Federal Rulemaking website: Go to https://www.regulations.gov and search for Docket ID NRC-2018-0093. Address questions about Docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. NUREG-1556, Volume 20, Revision 1, is located in ADAMS under Accession Number ML20318A384. This document is also available on the NRC's public website at https://www.nrc.gov/reading-rm/doc-collections/nuregs/staff/sr1556/v20.

• Attention: The PDR, where you may examine and order copies of public documents, is currently closed. You may submit your request to the PDR via email at pdr.resource@nrc.gov or call 1-800-397-4209 between 8:00 a.m. and 4:00 p.m. (EST), Monday through Friday, except Federal holidays.

FOR FURTHER INFORMATION CONTACT: Anthony McMurtray, Office of Nuclear Material Safety and Safeguards; U.S. Nuclear Regulatory Commission, Washington, DC 20555-0001; telephone: 301-415-2746; email: Anthony.McMurtray@nrc.gov.

SUPPLEMENTARY INFORMATION:

I. Discussion

The NRC issued a revision to NUREG-1556, Volume 20, to provide guidance to NRC staff and management on various materials licensing processes and procedures. The purpose of this notice is to notify the public that the NUREG-1556 volume listed in this notice was issued as a final report.

II. Additional Information

The NRC published a notice of the availability of the draft report for comment version of NUREG-1556, Volume 20, Revision 1, in the Federal Register on September 12, 2018 (83 FR 46198), with a public comment period ending October 15, 2018. No public comments were received for NUREG-1556, Volume 20, Revision 1.

III. Congressional Review Act

The NRC determined that this NUREG volume is not a rule as defined in the Congressional Review Act (5 U.S.C. 801-808).

Dated: December 17, 2020.
For the Nuclear Regulatory Commission.
Kevin Williams,
Director, Division of Materials Safety, Security, State and Tribal Programs, Office of Nuclear Material Safety and Safeguards.

[FR Doc. 2020-28302 Filed 12-22-20; 8:45 am]

BILLING CODE 7590-01-P